DEPARTMENT OF ENERGY

Federal Energy Regulatory Commission

[Docket No. RP01-560-000]

Kinder Morgan Interstate Gas Transmission LLC; Notice of Tariff Filing and Annual Charge Adjustment

September 6, 2001.

Take notice that on August 31, 2001, Kinder Morgan Gas Transmission LLC (KMIGT) tendered for filing as part of its FERC Gas Tariff, Fourth Revised Volume No. 1-A, Fourth Revised Sheet No. 4D, with an effective date of October 1, 2001.

KMIGT is filing the above-referenced tariff sheet in order to reflect the Commission's authorized ACA charge to be in effect for the twelve-month period effective October 1, 2001.

KMIGT states that a copy of this filing has been served upon all of its customers, interested state commissions and other interested parties.

Any person desiring to be heard or to protest said filing should file a motion to intervene or a protest with the Federal Energy Regulatory Commission, 888 First Street, NE., Washington, DC 20426, in accordance with Sections 385.214 or 385.211 of the Commission's Rules and Regulations. All such motions or protests must be filed on or before September 13, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-22896 Filed 9-11-01; 8:45 am]

BILLING CODE 6717-01-P